COMMITTEE FOR PURCHASE FROM PEOPLE WHO ARE BLIND OR SEVERELY DISABLED

Procurement List Proposed Additions

AGENCY: Committee for Purchase From People Who Are Blind or Severely Disabled.

ACTION: Proposed additions to the Procurement List.

SUMMARY: The Committee is proposing to add to the Procurement List products and services to be furnished by nonprofit agencies employing persons who are blind or have other severe disabilities.

Comments Must be Received on or Before: June 29, 2009.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and/or services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and/or services to the Government.

2. If approved, the action will result in authorizing small entities to furnish the products and/or services to the Government.

3. There are no known regulatory alternatives which would accomplish the objectives of the Javits-Wagner-O'Day Act (41 U.S.C. 46-48c) in connection with the products and/or services proposed for addition to the Procurement List.

Comments on this certification are invited. Commenters should identify the statement(s) underlying the certification on which they are providing additional information.

End of Certification

The following products and/or services are proposed for addition to Procurement List for production by the nonprofit agencies listed:

Products

NSN: 7520-00-NIB-1808—File, Wall Hanging, Clear.

NSN: 7520-00-NIB-1809—File, Wall Hanging, Smoke.

NSN: 7520-00-NIB-1810—File, Wall Hanging, Clear.

NSN: 7520-00-NIB-1811—File, Wall Hanging, Smoke.

NPA: Dallas Lighthouse for the Blind, Inc., Dallas, TX.

Contracting Activity: Federal Acquisition Service, GSA/FSS OFC SUP Ctr.—Paper Products.

Coverage: A-list for the total Government requirement as aggregated by the General Services Administration.

Administration NSNs: 7520-00-NIB-1809, 7520-00-NIB-1810 and 7520-00-NIB-1811 and B-list.

NSN: 7520-00-NIB-1808 for the broad Government requirement as aggregated by the General Services Administration.

NSN: 7510-00-NIB-0862—Tape, Pressure Sensitive .75x1000 6 rolls per pack.

NSN: 7510-00-NIB-0863—Tape, Pressure Sensitive .75x1000 6 rolls per pack.

NSN: 7510-00-NIB-0864—Tape, Pressure Sensitive .75x1000 6 rolls per pack.

NPA: Alphapointe Association for the Blind, Kansas City, MO.

Contracting Activity: Federal Acquisition Service, GSA/FSS OFC SUP Ctr.—Paper Products.

Coverage: A-list for the total Government requirement as aggregated by the General Services Administration.

NSN: 6230-01-514-0921—Kit, Safety, Lighting.

NSN: 6230-01-514-0920—Kit, Safety, Lighting.

NSN: 6230-01-513-2551—Kit, Safety, Lighting.

NSN: 6230-01-513-1934—Kit, Safety, Lighting.

NSN: 6230-01-513-1933—Kit, Safety, Lighting.

NSN: 6230-01-513-1930—Kit, Safety, Lighting.

NSN: 6230-01-513-1925—Kit, Safety, Lighting.

NSN: 6230-01-513-1924—Kit, Safety, Lighting.

NSN: 6230-01-513-1920—Kit, Safety, Lighting.

NPA: The Arc of Bergen and Passaic Counties, Inc., Hackensack, NJ.

Contracting Activity: Defense Logistics Agency, Defense Supply Center Philadelphia.

Coverage: C-list for the total requirement of the Defense Supply Center Philadelphia, Philadelphia.

Services

Service Type/Location: Food Service & Mess Attendants, Seabee Camp Covington Guam Support Facility, Resident NMCB, Santa Rita, GU.

NPA: Able Industries of the Pacific, Santa Rita, GU.

Contracting Activity: Dept. of the Navy, FISC Pearl Harbor.

Service Type/Location: Custodial Services, USDA-Forest Service-Midewin National Tallgrass Prairie, 30239 South State Route 53, Wilmington, IL.

NPA: United Cerebral Palsy of the Land of Lincoln, Springfield, IL.

Contracting Activity: Forest Service, Midewin National Tallgrass Prairie.

Service Type/Location: Grounds Maintenance Service, Grounds Maintenance, Caribbean National Forest, Rio Grand, PR, El Yunque, Rio Grand, PR.

NPA: The Corporate Source, Inc., New York, NY.

Contracting Activity: Forest Service, Southern Regional Office.

Barry S. Lineback,
Director, Business Operations.

[FR Doc. E9-12539 Filed 5-28-09; 8:45 am]

BILLING CODE 6353-01-P